DEPARTMENT OF THE INTERIOR

National Park Service

[NPS-WASO-NRNHL-DTS#-33308; PPWOCRADI0, PCU00RP14.R50000]

National Register of Historic Places; Notification of Pending Nominations and Related Actions

AGENCY: National Park Service, Interior.

ACTION: Notice.

SUMMARY: The National Park Service is soliciting electronic comments on the significance of properties nominated before January 15, 2022, for listing or related actions in the National Register of Historic Places.

DATES: Comments should be submitted electronically by February 9, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before January 15, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

CALIFORNIA

Orange County

St. Isidore Catholic Church (Latinos in 20th Century California MPS), 10961 Reagan St., Los Alamitos, MP100007440

HAWAII

Hawaii County

Honoka a Catholic Properties-Our Lady of Lourdes Catholic Church (Honoka'a Town, Hawaii MPS), 45-5028 Plumeria St., Honoka'a, MP100007451

INDIANA

Allen County

Calvary United Brethren-Turner Chapel AME Church, 836 East Jefferson Blvd., Fort Wayne, SG100007447

Bartholomew County

Evans Lustron House (Lustron Houses in Indiana), 2121 Pennsylvania St., Columbus, MP100007445

Brown County

Bean Blossom Covered Bridge, Covered Bridge Rd. over Bean Blossom Cr., 7/10 mi. SW of jct. of IN 45 and 135, Bean Blossom vicinity, SG100007441

Delaware County

Hathaway-Parker House, 1116 West Beechwood Ave., Muncie, SG100007444

Hamilton County

Stultz-Stanley House, 209 West Main St., Westfield, SG100007442

Howard County

Douglass School (Indiana's Public Common and High Schools MPS), 1104 North Bell St., Kokomo, MP100007443

Marion County

Garfield Drive Historic District, Roughly bounded by Raymond and Shelby Sts., East Garfield and South Garfield Drs., Indianapolis, SG100007448

Parke County

Davis, William E. and Carolyn, House, 411 Jackson St., Rockville, SG100007446

NEW YORK

Erie County

Fedders Manufacturing Company Factory (Black Rock Planning Neighborhood MPS), 31-71 Tonawanda St., Buffalo, MP100007439

OHIO

Franklin County

Ohio State Office Building (Boundary Increase), 25-145 South Front St., Columbus, BC100007452

A request for removal has been made for the following resource:

OHIO

Franklin County

Hartman Stock Farm Historic District, South of Columbus on US 23, Columbus vicinity, OT74001492

Additional documentation has been received for the following resources:

GEORGIA

Wilkes County

Cedars, The (Additional Documentation), 201 Sims St., Washington, AD72000403

INDIANA

Franklin County

Oldenburg Historic District (Additional Documentation), Bounded roughly by Sycamore, church land woods, Indiana, and Water Sts., and Gehring Farm, Oldenburg, AD83000031

Authority: Section 60.13 of 36 CFR part 60.

Dated: January 18, 2022.
Sherry A. Frear,
Chief, National Register of Historic Places/National Historic Landmarks Program.

[FR Doc. 2022-01354 Filed 1-24-22; 8:45 am]

BILLING CODE 4312-52-P